DEPARTMENT OF COMMERCE

National Oceanic and Atmospheric Administration

[I.D. No. 031606B]

Endangered and Threatened Wildlife and Plants: Announcement of Initiation of a Status Review of Cook Inlet Beluga Whales under the Endangered Species Act (ESA); Request for Information

AGENCY: National Marine Fisheries Service (NMFS), National Oceanic and Atmospheric Administration (NOAA), Commerce.

ACTION: Reopening of the time period for submitting information.

SUMMARY: We, NOAA's National Marine Fisheries Service (NMFS), are reopening the time period for submitting information to be used during the Status Review of Cook Inlet Beluga Whales under the ESA. The initial deadline for submitting information was April 24, 2006. We are reopening this time period for an additional 30 days.

DATES: Written information must be received by May 30, 2006.

ADDRESSES: Information should be sent to Kaja Brix, Assistant Regional Administrator, Protected Resource Division, NMFS, Alaska Region, Attn: Ellen Walsh. Information may be submitted by:

(1) Mail: P.O. Box 21668, Juneau, AK 99802-1668;

(2) Hand Delivery to the Federal Building: 709 West 9th Street, Room 420A, Juneau, AK;

(3) FAX: 907-586-7557; or

(4) Email: CIB-ESA-Status-Review@noaa.gov. Include in the subject line of the email the following document identifier: CI Beluga Status Review. Email comments, with or without attachments, are limited to five (5) megabytes.

FOR FURTHER INFORMATION CONTACT: Brad Smith, NMFS Alaska Region, Anchorage Field Office, (907) 271-5006, or Kaja Brix, NMFS, Alaska Region, (907) 586-7235, or Marta Nammack, Office of Protected Resources, (301) 713-1401.

SUPPLEMENTARY INFORMATION: NMFS published a notice in the Federal Register on March 24, 2006 (71 FR 14836), announcing our intent to initiate a status review on Cook Inlet beluga whales under the ESA. The notice also solicited information to assist in the development of the status review. We have since received several requests to extend the deadline for providing any pertinent information. However, the deadline was April 24, 2006. We, therefore, are reopening the time period for submitting information for an additional 30 days (instead of extending the deadline) to allow interested parties to submit relevant information.

All comments and material received, including names and addresses, will become part of the administrative record and may be released to the public.

Please visit NMFS' Alaska Region web page at http://www.fakr.noaa.gov for more information on this status review. General information is available on Cook Inlet belugas at: http://www.fakr.noaa.gov/protectedresources/whales/beluga.htm.

Dated: April 24, 2006.
Jim Lecky,
Director, Office of Protected Resources, National Marine Fisheries Service.

[FR Doc. E6-6444 Filed 4-27-06; 8:45 am]

BILLING CODE 3510-22-S